DEPARTMENT OF DEFENSE

Corps of Engineers

33 CFR Part 334

[Docket Number COE-2019-0010]

Washington Channel, Fort McNair, Washington, DC; Restricted Area

AGENCY: U.S. Army Corps of Engineers, Defense (DoD).

ACTION: Proposed rule; withdrawal.

SUMMARY: The U.S. Army Corps of Engineers (Corps) withdraws the proposed rules to establish a restricted area in the Washington Channel adjacent to Fort McNair in Washington, DC. The first notice of proposed rulemaking was published in the Federal Register on August 8, 2019, and a revised notice of proposed rulemaking was published in the Federal Register on October 13, 2020. In correspondence dated March 22, 2022, Fort McNair withdrew their request for the establishment of the restricted area.

DATES: As of May 2, 2022, the Corps is withdrawing the proposed rules published on August 9, 2019 (84 FR 38893) and October 13, 2020 (85 FR 64434).

DATES: U.S. Army Corps of Engineers, Attn: CECW-CO-R (David B. Olson), 441 G Street NW, Washington, DC 20314-1000.

FOR FURTHER INFORMATION CONTACT: Mr. David Olson, Headquarters, Operations and Regulatory Division, Washington, DC at 202-761-4922.

SUPPLEMENTARY INFORMATION: In a correspondence dated September 15, 2017, Ft. McNair requested that the Corps, pursuant to the Corps' authorities in 40 Stat. 266 (33 U.S.C. 1) and 40 Stat. 892 (33 U.S.C. 3), establish a restricted area in navigable waters in the Washington Channel adjacent to Fort McNair. On August 8, 2019 (84 FR 38893), the Corps published a proposed rule to establish the restricted area. On October 13, 2020 (85 FR 64434), the Corps published a revised proposed rule to establish the restricted area. In correspondence dated March 22, 2022, Fort McNair withdrew their request for the establishment of the restricted area.

Thomas P. Smith,
Chief, Operations and Regulatory Division, Directorate of Civil Works.

[FR Doc. 2022-09323 Filed 4-29-22; 8:45 am]

BILLING CODE 3720-58-P